DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 7, 2014. Address written comments to Statutory Import Programs Staff, Room 3720, U.S. Department of Commerce, Washington, DC 20230. Applications may be examined between 8:30 a.m. and 5:00 p.m. at the U.S. Department of Commerce in Room 3720.

Docket Number: 14-009. Applicant: Ohio State University, E447 Scott Laboratory, Department of Mechanical and Aerospace Engineering, 201 West 19th Avenue, Columbus, OH 43210. Instrument: Diode pumped, solid state high speed Nd:YVO4 laser system. Manufacturer: Edgewave GmgH, Germany. Intended Use: The instrument will be used to conduct particle imaging velocimetry, and Rayleigh scattering and planar laser-induced fluorescence, to understand the fundamental roles of fluid turbulence on scalar mixing and reaction rates by studying fundamental fluid mechanics and chemical kinetics in turbulent flows with and without chemical reaction and combustion. The primary targets are non-reacting turbulent flows consisting of compressed air and combusting turbulent flows with fuels of methane and oxidizer of air. The products of combustion are water, carbon dioxide, and nitrogen. The instrument is required to operate over a broad range of experiment conditions with specific targets of repetition rates ranging from 1 to 50 kHz. At these repetition rates, a minimum output power of 20 Watts is required at all operating conditions. A high-quality beam profile of M²<2 is also needed. The pulse duration of the laser must also be less than 10 nanoseconds. Without these characteristics, accurate velocity and scalar fields, including species concentration, temperature, and density cannot be measured. Justification for Duty-Free Entry: There are no instruments of the same general category manufactured in the United States. Application accepted by Commissioner of Customs: April 3, 2014.

Dated: June 10, 2014.
Gregory W. Campbell,
Director of Subsidies Enforcement, Enforcement and Compliance.

[FR Doc. 2014-14156 Filed 6-16-14; 8:45 am]

BILLING CODE 3510-DS-P